DEPARTMENT OF HEALTH AND HUMAN SERVICES

National Institutes of Health

National Institute of Arthritis and Musculoskeletal and Skin Diseases; Amended Notice of Meeting

Notice is hereby given of a change in the meeting of the National Institute of Arthritis and Musculoskeletal and Skin Diseases Special Emphasis Panel, which was published in the Federal Register on May 20, 2019, 84 FR 22870.

The meeting date, time and place remain the same. This notice is amended to update contact information—Dr. Kathy Salaita, Chief, Scientific Review Branch, NIAMS/NIH/DHHS, 6701 Democracy Blvd., Rm. 818, Bethesda, MD 20892, Kathy.Salaita@nih.gov. The meeting is closed to the public.

Dated: May 23, 2019.
Natasha M. Copeland,
Program Analyst, Office of Federal Advisory Committee Policy.

[FR Doc. 2019-11201 Filed 5-29-19; 8:45 am]

BILLING CODE 4140-01-P